DEPARTMENT OF LABOR

Agency Information Collection Activities; Comment Request; Authorization and Certification/Letter of Medical Necessity, CA-26/CA-27; Correction

ACTION: Request for public comments; correction.

SUMMARY: The Department of Labor (DOL), Office of Workers' Compensation Programs, is correcting a notice that appeared in the Federal Register on January 26, 2024. After publication of the notice, the DOL discovered that the information provided in the SUPPLEMENTARY INFORMATION section contained several errors. DOL is issuing this correction to provide the correct information.

FOR FURTHER INFORMATION CONTACT: Anjanette Suggs, Office of Workers' Compensation Programs, OWCP, at suggs.anjanette@dol.gov (email); (202) 354-9660 (phone).

SUPPLEMENTARY INFORMATION:

Correction

In FR. Doc. 2024-01535 appearing at 89 FR 5263 in the Federal Register of Friday, January 26, 2024, on page 5264, in the third column, the following corrections are made to the SUPPLEMENTARY INFORMATION section, I. Background subsection:

1. The first four full paragraphs of that third column are corrected to read as follows:

OWCP believes that the the two forms used to monitor compound and opiate medication further strengthens medical management procedures for prescription drugs, assist our stakeholders in controlling costs afrom medically unnecessary treatements, and lessens the impact of potential drug addiction and medical fraud. However, OWCP is bifurcating the CA-26 from this collection so that it may be transferred to 1240-0NEW where it will be renamed OWCP-26. (The OWCP-26 will be updated to be applicable in all of OWCP's program areas; otherwise, it will remain the same. The public and stakeholders for all programs will have opportunity to comment on the new form with the upcoming publication of the 60-day Federal Register Notice for 1240-0NEW.)

A major goal of the FECA program is to return an injured employee back to employment as soon as medically feasible. The CA-27 form is a means for injured workers to continue receiving opiod drugs only where medically necessary and simultaneously gives OWCP greater oversight in monitoring opioid use.

OWCP has issued regulations relating to its authority to require prior authorization for medical treatment which will now be applied through the CA-27 to opioids. (20 CFR 10.310, 10.800 & 10.809). Requiring Prior Authorization will assist OWCP in determining whether the prescribed medication will assist in curing, giving relief, and lessening the degree of disability. FECA further provides OWCP the authority to conduct such investigation as necessary before making an award of compensation (including the need for medical treatment by certain prescription drugs). 5 U.S.C. 8124(a)(2). Finally, 5 U.S.C. 8149 provides OWCP the authority to prescribe rules and regulations necessary for the administration of FECA.

As such, the CA-27, Authorization Request form and Certification/Letter of Medical Necessity or Opioid Medications, fulfill these requirements and obligations under the FECA.

2. On page 5265, in the first column, the following corrections are made to the summary of the collection contained in subsection III. Current Actions:

Type of Review: Revision.

Agency: Office of Workers' Compensation Programs, Division of Federal Employees' Longshore, and Harbor Workers' Compensation, OWCP/DFELHWC.

OMB Number: 1240-0055.

Affected Public: Individuals or households; business or other for-profit.

Number of Respondents: 78.

Frequency: On occasion.

Number of Responses: 490.

Annual Burden Hours: 245 hours.

Annual Respondent or Recordkeeper Cost: $28,116.20.

Anjanette Suggs,
Certifying Officer.

[FR Doc. 2024-06361 Filed 3-25-24; 8:45 am]

BILLING CODE 4510-CH-P